SMALL BUSINESS ADMINISTRATION

National Small Business Development Center Advisory Board Meeting

AGENCY: U.S. Small Business Administration (SBA).

ACTION: Notice of open Federal Advisory Committee meetings.

SUMMARY: The SBA is issuing this notice to announce the location, date, time and agenda for the 4th quarter meetings of the National Small Business Development Center (SBDC) Advisory Board.

DATES: The meetings for the 4th quarter will be held on the following dates: Tuesday, July 19,2016 at 1:00 p.m. EST, Tuesday, August 16, 2016 at 1:00 p.m. EST Tuesday, September 20, 2016 at 1:00 p.m. EST.

ADDRESSES: These meetings will be held via conference call.

SUPPLEMENTARY INFORMATION: Pursuant to section IO(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC Advisory Board:

SBA Update Annual

Meetings Board

Assignments

Member Roundtable

FOR FURTHER INFORMATION CONTACT: The meeting is open to the public however advance notice of attendance is requested. Anyone wishing to be a listening participant must contact Monika Nixon by fax or email. Her contact information is Monika Nixon, Program Specialist, 409 Third Street SW., Washington, DC 20416, Phone, 202-205-7310, Fax 202-481-5624, email, monika.nixon@sba.gov.

Additionally, if you need accommodations because of a disability or require additional information, please contact Monika Nixon at the information above.

Miguel L' Heureux,
White House Liaison.

[FR Doc. 2016-14263 Filed 6-16-16; 8:45 am]

BILLING CODE 8025-01-P